LEGAL SERVICES CORPORATION

Sunshine Act Meetings

TIME AND DATE: The Legal Services Corporation (LSC) Board of Directors and its committees will hold their summer 2024 quarterly business meeting July 22-24, 2024. On Monday, July 22, the first meeting will begin at 2:45 p.m. CT, with the next meeting commencing promptly upon adjournment of the immediately preceding meeting. On Tuesday, July 23, the first meeting will again begin at 9:00 a.m. CT, with the next meeting commencing promptly upon adjournment of the immediately preceding meeting. On Wednesday, July 24, the first meeting will begin at 9:00 a.m. CT, with the next meeting commencing promptly upon adjournment of the immediately preceding meeting.

PLACE: Public Notice of Hybrid Meeting.

LSC will conduct its July 22-24, 2024 meetings at The Royal Sonesta Minneapolis Downtown Hotel, 35 S 7th Street, Minneapolis, MN 55402, and virtually via Zoom.

Public Observation: Unless otherwise noted herein, the Board and all committee meetings will be open to public observation. Members of the public who wish to participate virtually in the public proceedings may do so by following the directions provided below.

Directions for Open Sessions

Monday, July 22, 2024

• To join the Zoom meeting by computer, please use this link.

○ https://lsc-gov.zoom.us/j/89974627352?pwd=r1JxQ79wk7QVonjmbZoon5obh2DoSR.1.

○ Meeting ID: 899 7462 7352.

○ Passcode: 72224.

Tuesday, July 23, 2024

• To join the Zoom meeting by computer, please use this link.

○ https://lsc-gov.zoom.us/j/85024931248?pwd=JGFCLLjykSn08OIngH5UbkzsshHiG2.1.

○ Meeting ID: 850 2493 1248.

○ Passcode: 72324.

Wednesday, July 24, 2024

• To join the Zoom meeting by computer, please use this link.

○ https://lsc-gov.zoom.us/j/82442218026?pwd=yl8ajLC8yb9pJXE4xlkkbRXW58JW2n.1.

○ Meeting ID: 824 4221 8026.

○ Passcode: 72424.

○ If calling from outside the U.S., find your local number here: https://lsc-gov.zoom.us/u/acCVpRj1FD.

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

Status: Open, except as noted below.

Audit Committee—Open, except that, upon a vote of the Board of Directors, the meeting may be closed to the public to receive a briefing by the Office Compliance and Enforcement on active enforcement matter(s) and follow-up on open investigation referrals from the Office of Inspector General (ACC § VIII A (5)); receive briefings by LSC Management regarding status of TN-4 Service Area and significant grantee oversight activities; to receive a briefing by the Office of Inspector General on the status of open referrals from LSC Management (if appropriate); and to receive a briefing regarding LSC's Systems of Internal Controls that are designed to minimize the risk of fraud, theft, corruption, or misuse of funds (ACC § VIII C (1)).

Finance Committee—Open, except that, upon a vote of the Board of Directors, the meeting may be closed to the public to receive a briefing on the status of Audit Management Letter Comments on HR procedures.

Board of Directors—Open, except that, upon a vote of the Board of Directors, a portion of the meeting may be closed to the public to receive briefings from Management and the Inspector General; the request for the Board to consider and act on the General Counsel's Report on potential and pending litigation involving LSC as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b (a) (2) and (b). See also 45 CFR 1622.2 & 1622.3.

A verbatim written transcript will be made of the closed sessions of the Audit, Finance, and the Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Monday, July 22, 2024

Start Time 2:45 p.m. CT

Audit Committee

Open to the Public

1. Approval of Agenda

2. Approval of Minutes of the Committee's Open Session Meeting on March 25, 2024

3. Approval of the Minutes of the Combined Audit and Finance Committee's Open Session Meeting on April 8, 2024

4. Update on reassessment of the Committee's Charter (Audit Committee Charter § D (2))

5. Briefing by the Office of Inspector General (ACC § VIII A (3) and (ACC § VIII A (4)), to include:

a. Update on key activities and accomplishments over the last quarter, and overview of plans and key priorities for the next quarter,

b. Highlights of recently completed audit work, open recommendations as reported in the latest Semi-Annual Report to Congress, ongoing work, and plans for the next quarter, and

c. Highlights of recently completed investigative work, ongoing work, and plans for the next quarter.

6. Management Update Regarding Risk Management

7. Management Update Regarding Accounting Procedures Manual

8. Briefing about Follow-up by the Office of Compliance and Enforcement on Referrals by the Office of Inspector General Regarding Audit Reports and Annual Financial Statement Audits of Grantees (ACC § VIII A (5))

9. Public Comment

10. Consider and Act on Other Business

11. Consider and Act on Motion to Adjourn the Open Session Meeting and Proceed to a Closed Session Meeting

Portions Closed to the Public

12. Approval of Minutes of the Committee's Closed Session Meeting on March 25, 2024

13. Approval of Minutes of the Combined Audit and Finance Committee's Closed Session Meeting on April 8, 2024

14. Briefing by Office Compliance and Active Enforcement Matter(s) and Follow-Up on Open Investigation Referrals from the Office of Inspector General (ACC § VIII A (5))

15. Briefing by LSC Management Regarding Status of TN-4 Service Area

16. Briefing by LSC Management Regarding Significant Grantee Oversight Activities

17. Briefing by the Office of Inspector General on the Status of Open Referrals from LSC Management (if appropriate)

18. Briefing Regarding LSC's Systems of Internal Controls that are Designed to Minimize the Risk of Fraud, Theft, Corruption, or Misuse of Funds (ACC § VIII C (1))

19. Consider and Act on Motion to Adjourn the Meeting

Monday, July 22, 2024

Start Time 4:30 p.m. CT

Finance Committee

Open to the Public

1. Approval of Agenda

2. Approval of the Minutes of the Finance Committee's Open Session Meeting on April 2, 2024

3. Approval of the Minutes of the Finance Committee's Open Session Meeting on June 11, 2024

4. Approval of the Minutes of the Finance Committee's Open Session Meeting on June 24, 2024

5. Approval of the Minutes of the Combined Audit & Finance Committees' Open Session Meeting on April 8, 2024

6. Report on LSC's Financial Report for the First Eight Months of Fiscal Year 2024 (Period from Oct. 1, 2023 to May 31, 2024)

7. Report on Year-End Projection for Fiscal Year 2024

8. Report on the Fiscal Year 2025 Appropriations Process and Supplemental Appropriations

9. Consider and Act on Resolution #2024-XXX: Fiscal Year 2025 Temporary Operating Authority

10. Public Comment

11. Consider and Act on Other Business

12. Consider and Act on Motion to Adjourn the Open Session Meeting and Proceed to a Closed Session

Portions Closed to the Public

13. Approval of the Minutes of the Combined Audit & Finance Committees' Closed Session on April 8, 2024

14. Management Briefing on Status of Audit Management Letter Comments on HR Procedures

15. Consider and Act on Motion to Adjourn the Meeting

Tuesday, July 23, 2024

Start Time 9:00 a.m. CT

Delivery of Legal Services Committee

Open to the Public

1. Approval of Agenda

2. Approval of Minutes of the Committee's Open Session Meeting on April 2, 2024

3. LSC Performance Criteria Revisions Update

4. Panel Discussion: Working with Unhoused Clients in Legal Aid Public Comment

5. Consider and Act on Other Business

6. Consider and Act on a Motion to Adjourn the Meeting

Tuesday, July 23, 2024

Start Time 10:45 a.m. CT

Operations and Regulations Committee

Open to the Public

1. Approval of Agenda

2. Approval of Minutes of the Committee's Open Session Meeting on April 2, 2024

3. Consider and Act on Final Rule for 45 CFR part 1607—Governing Bodies

4. Consider and Act on Justification Memo for 45 CFR parts 1621—Client Grievance Procedures and 1624—Prohibition Against Discrimination on the Basis of Disability

5. Report on Vendor Management

6. Public Comment

7. Consider and Act on Other Business

8. Consider and Act on Motion to Adjourn Meeting

Wednesday, July 24, 2024

Start Time 9:00 a.m. CT

Communications Subcommittee of the Institutional Advancement Committee

Open to the Public

1. Approval of Agenda

2. Approval of Minutes of the Subcommittee's Open Session Meeting on March 26, 2024

3. Communications and Social Media Update

4. Public Comment

5. Consider and Act on Other Business

6. Consider and Act on Motion to Adjourn the Meeting

Wednesday, July 24, 2024

Start Time 9:45 a.m. CT

Board of Directors

Open to the Public

1. Pledge of Allegiance

2. Approval of Agenda

3. Approval of Minutes of the Board's Open Session Meeting on April 8, 2024

4. Approval of Minutes of the Board's Open Session Meeting on May 17, 2024

5. Chairman's Report

6. Members' Reports

7. President's Report

8. Briefing from Office of Data Governance & Analysis

9. Inspector General's Report

10. Consider and Act on the Report of the Governance and Performance Review Committee (Meeting held June 27)

11. Consider and Act on the Report of the Institutional Advancement Committee (Meeting held July 11)

12. Consider and Act on the Report of the Audit Committee

13. Consider and Act on the Report of the Finance Committee

a. Consider and Act on Resolution #2024-XXX:Temporary Operating Authority for Fiscal Year 2025

b. Consider and Act on Resolution #2024-XXX: Adopting LSC's Budget Appropriation Request for Fiscal Year 2026

14. Consider and Act on the Report of the Delivery of Legal Services Committee

15. Consider and Act on the Report of the Operations and Regulations Committee

16. Public Comment

17. Consider and Act on Other Business

18. Consider and Act on Whether to Authorize a Closed Session of the Board to Address Items Listed Below

Portions Closed to the Public

19. Approval of Minutes of the Board's Closed Session Meeting on April 8, 2024

20. Approval of Minutes of the Board's Closed Session Meeting on May 2, 2024

21. Approval of Minutes of the Board's Closed Session Meeting on May 17, 2024

22. Management Briefing

23. Inspector General's Briefing

24. Consider and Act on General Counsel's Report on Potential and Pending Litigation Involving Legal Services Corporation

25. Consider and Act on List of Prospective Leaders Council and Emerging Council Invitees

26. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: July 9, 2024.
Mark Freedman,
Senior Associate General Counsel, Legal Services Corporation.

[FR Doc. 2024-15389 Filed 7-10-24; 11:15 am]

BILLING CODE 7050-01-P